DEPARTMENT OF LABOR

Employment and Training Administration

[TA-W-50,695]

Fishing Vessel (F/V) Miss Maddison, Mercer Island, WA; Notice of Termination of Investigation

Pursuant to Section 221 of the Trade Act of 1974, as amended, an investigation was initiated on January 28, 2003 in response to a petition filed by a company official on behalf of Fishing Vessel (F/V) Miss Maddison, Mercer Island, Washington.

The petitioner has requested that the petition be withdrawn. Consequently, further investigation would serve no purpose and the investigation has been terminated.

Signed at Washington, DC this 19th day of March, 2003.
Linda G. Poole,
Certifying Officer, Division of Trade Adjustment Assistance.

[FR Doc. 03-7903 Filed 4-1-03; 8:45 am]

BILLING CODE 4510-30-U